ENVIRONMENTAL PROTECTION AGENCY

40 CFR Part 300

[FRL-7045-2]

National Oil and Hazardous Substance Pollution Contingency Plan; National Priorities List Update

AGENCY: Environmental Protection Agency.

ACTION: Notice of deletion of the Western Pacific Railroad Superfund site from the National Priorities List.

SUMMARY: The Environmental Protection Agency (EPA) Region 9 announces the deletion of the Western Pacific Railroad Site in Oroville, Butte County, California, from the National Priorities List (NPL). The NPL is Appendix B of 40 CFR part 300 which is the National Oil and Hazardous Substances Pollution Contingency Plan (NCP), which EPA promulgated pursuant to Section 105 of the Comprehensive Environmental Response, Compensation, and Liability Act of 1980 (CERCLA), as amended. EPA and the State of California, through the Department of Toxic Substances Control, have determined that the site poses no significant threat to public health or the environment and, therefore, no further remedial measures pursuant to CERCLA are appropriate.

EFFECTIVE DATE: August 29, 2001.

FOR FURTHER INFORMATION CONTACT: Holly Hadlock, Project Manager, U.S. EPA, Region 9, 75 Hawthorne Street, SFD-7-1, San Francisco, CA 94105, (415) 744-2244.

SUPPLEMENTARY INFORMATION: The site to be deleted from the NPL is the Western Pacific Railroad Site, Oroville, Butte County, California.

A Notice of Intent to Delete for this site was published in the Federal Register on July 18, 2001 (66 FR 37439). The closing date for comments on the Notice of Intent to Delete was August 17, 2001. No comments were received, therefore, EPA has not prepared a Responsiveness Summary. EPA identifies sites that appear to present a significant risk to public health, welfare, or the environment and it maintains the NPL as the list of those sites. Any site deleted from the NPL remains eligible for Fund-financed remedial actions in the unlikely event that conditions at the site warrant such actions. Section 300.425(e)(3) of the NCP states that Fund-financed actions may be taken at sites deleted from the NPL. Deletion of a site from the NPL does not affect responsible party liability or impede Agency efforts to recover costs associated with response efforts.

List of Subjects in 40 CFR Part 300

Environmental protection, Air pollution control, Chemicals, Hazardous substances, Hazardous waste, Intergovernmental relations, Penalties, Reporting and record keeping requirements, Superfund, Water pollution control, and Water supply.

Dated: August 17, 2001.
Laura Yoshii,
Acting Regional Administrator, Region 9.

For the reasons set out in the preamble, 40 CFR part 300 is amended as follows:

PART 300—[AMENDED]

1. The authority citation for part 300 continues to read as follows:

Authority: 42 U.S.C. 9601-9657; 33 U.S.C. 1321(c)(2); E.O. 12777, 56 FR 54757, 3 CFR, 1991 Comp., p. 351; E.O. 12580, 52 FR 2923, 3 CFR, 1987 Comp., p. 193.

Appendix B—[Amended]

2. Table 1 of Appendix B to part 300 is amended by removing the entry for the “Western Pacific Railroad Co.” in Oroville, California.

[FR Doc. 01-21702 Filed 8-28-01; 8:45 am]

BILLING CODE 6560-50-P